DEPARTMENT OF EDUCATION

[CFDA No. 84.215F]

Office of Elementary and Secondary Education: Physical Education for Progress Grant Program; Notice Inviting Applications for New Awards for Fiscal Year (FY) 2001

SUMMARY: The Secretary invites applications for new awards for FY 2001 under the Physical Education for Progress Grant Program competition (84.215F). The Office of Elementary and Secondary Education, Safe and Drug-Free Schools Program will administer this competition.

Purpose of Program: To assist local educational agencies (LEAs) to initiate, expand, and improve physical education programs in LEAs.

Eligible Applicants: Only LEAs are eligible to submit an application under this competition.

Applications Available: May 3, 2001.

Deadline for Transmittal of Applications: June 18, 2001.

Deadline for Intergovernmental Review: August 10, 2001.

Applicable Regulations: (a) The Education Department General Administrative Regulations (EDGAR) in 34 CFR parts 74, 75, 77, 79, 80, 81, 82, 85, 97, 98, and 99; (b) The regulations in 34 CFR part 299; and (c) the final priority and selection criteria for this grant competition as published elsewhere in this issue of the Federal Register.

Award Information: The estimated range of awards under this competition is $200,000—$400,000, with an average award of $300,000. We estimate that approximately 16 awards will be made. Please note that the range of awards, average size of awards, number of awards, and available funding in this notice are estimates only. The Department is not bound by any estimates in this notice.

Project Period: Up to 12 months.

For Applications and Further Information Contact: Safe and Drug-Free Schools Program, 400 Maryland Avenue, SW, 3E332, Washington, DC 20202-6123. Telephone: 202/401-2140. Fax: 202/260-7767. Email:

Connie.Deshpande@ed.gov. Internet: http://www.ed.gov/offices/OESE/SDFS

If you use a telecommunications device for the deaf (TDD), you may call the Federal Information Relay Service (FIRS) at 1-888-877-8339. Individuals with disabilities may obtain a copy of this document, or an application package, in an alternative format (e.g., Braille, large print, audiotape, or computer diskette) on request to the program contact listed under For Applications and Further Information Contact. However, the Department is not able to reproduce in an alternative format the standard forms included in the application package.

Electronic Access to This Document

You may view this document, as well as all other Department of Education documents published in the Federal Register, in text or Adobe Portable Document Format (PDF) on the Internet at the following site: www.ed.gov/legislation /FedRegister.

To use PDF, you must have the Adobe Acrobat Reader, which is available free at the previous site. If you have questions about using PDF, call the U.S. Government Printing Office (GPO) toll free at 1/888/293-6498; or in the Washington, DC area at 202-512-1530.

Note: The official version of this document is the document published in the Federal Register. Free Internet access to the official edition of the Federal Register and the Code of Federal Regulations is available on GPO Access at: http://www.access.gpo.gov/nara/index.html.

Program Authority: 20 U.S.C. 8351.

Dated: April 27, 2001.
Thomas M. Corwin,
Acting Deputy Assistant Secretary for Elementary and Secondary Education.

[FR Doc. 01-11440 Filed 5-4-01; 8:45 am]

BILLING CODE 4000-01-U